FEDERAL COMMUNICATIONS COMMISSION

47 CFR Part 73

[DA 00-2887; MM Docket Nos. 00-189, 00-190, 00-191, 00-192; RM-9984, RM-9985, RM-9986, RM-9987]

Radio Broadcasting Services (Heber, Snowflake, Overgaard, and Taylor, Arizona)

AGENCY: Federal Communications Commission.

ACTION: Final rule.

SUMMARY: The Commission, at the request of New Directions Media, Inc., allots Channel 288C2 at Heber, Arizona, Channel 258C2 at Snowflake, Arizona, Channel 232C3 at Overgaard, Arizona, and Channel 278C3 at Taylor, Arizona as each community's first local aural service. See 65 FR 64924 (October 31, 2000). Channel 288C2 can be allotted to Heber in compliance with the Commission's minimum distance separation requirements, with respect to domestic allotments, without the imposition of a site restriction, at coordinates 34-25-53 NL and 110-35-36 WL. Channel 258C2 can be allotted to Snowflake in compliance with the Commission's minimum distance separation requirements, with respect to domestic allotments, without the imposition of a site restriction at coordinates 34-30-48 NL and 110-04-40 WL. Channel 232C3 can be allotted to Overgaard in compliance with the Commission's minimum distance separation requirements, with respect to domestic allotments, without the imposition of a site restriction at coordinates 34-23-27 NL and 110-33-04 WL. Channel 278C3 can be allotted to Taylor in compliance with the Commission's minimum distance separation requirements, with respect to domestic allotments, without the imposition of a site restriction at coordinates 34-27-54 NL and 110-05-26 WL A filing window for Channel 288C2 at Heber, Arizona, Channel 258C2 at Snowflake, Arizona, Channel 232C3 at Overgaard, Arizona, and Channel 278C3 at Taylor will not be opened at this time. Instead, the issue of opening a filing window for each channel will be addressed by the Commission in a subsequent order.

DATES: Effective February 5, 2001.

FOR FURTHER INFORMATION CONTACT: Victoria M. McCauley, Mass Media Bureau, (202) 418-2180.

SUPPLEMENTARY INFORMATION: This is a synopsis of the Commission's Report and Order, MM Docket No., adopted December 13, 2000, and released December 22, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arizona is amended by adding Heber, Channel 288C2; Snowflake, Channel 258C2; Overgaard, Channel 232C3; and Taylor, Channel 278C3.

Federal Communications Commission.
John A. Karousos,
Chief, Allocations Branch, Policy and Rules Division, Mass Media Bureau.

[FR Doc. 00-33211 Filed 12-27-00; 8:45 am]

BILLING CODE 6712-01-U